COMMITTEE FOR THE IMPLEMENTATION OF TEXTILE AGREEMENTS

Reconfirmation of a Previous Directive Concerning Visa and Quota Requirements for Textiles and Textile Products Entered as Sets

March 15, 2002.

AGENCY: Committee for the Implementation of Textile Agreements (CITA).

ACTION: Issuing a directive to the Commissioner of Customs reconfirming a previous directive.

EFFECTIVE DATE: March 18, 2002.

FOR FURTHER INFORMATION CONTACT: Martin Walsh, International Trade Specialist, Office of Textiles and Apparel, U.S. Department of Commerce, (202) 482-3400.

SUPPLEMENTARY INFORMATION:

Authority: Executive Order 11651 of March 3, 1972, as amended; Section 204 of the Agricultural Act of 1956, as amended (7 U.S.C. 1854).

In a notice and letter to the Commissioner of Customs published in the Federal Register on August 24, 1989 (54 FR 35223), CITA directed the U.S. Customs Service to apply all otherwise applicable visa and quota requirements to textiles and textile products which are classified as components of a set. This directive applied to all items which, if imported separately, would have required a visa and the reporting of quota. Recently, there has been uncertainty concerning the continuing applicability of this directive. The letter published below reconfirms the previously published directive.
D. Michael Hutchinson,
Acting Chairman, Committee for the Implementation of Textile Agreements.

Committee for the Implementation of Textile Agreements

March 15, 2002.

Commissioner of Customs,

Department of the Treasury, Washington, DC 20229.

This letter reconfirms the directive of August 18, 1989 that clarified the intent of the Committee for the Implementation of Textile Agreements on the applicability of visa requirements and quota reporting of textiles and textile products entered as components of sets under General Rule of Interpretation (GRI) 3 of the Harmonized Tariff Schedule (HTS).

Effective on March 18, 2002, the directive of August 18, 1989 is reissued as follows:

Under the terms of Section 204 of the Agricultural Act of 1956, as amended (7 U.S.C. 1854); and in accordance with the provisions of Executive Order 11651 of March 3, 1972, as amended; all applicable visa and quota requirements will apply for textiles and textile products which are classified as components of a set. This rule applies to all items which, if imported separately, would have required a visa and the reporting of quota.

Effective on March 18, 2002, you are directed to prohibit entry for consumption or withdrawal from warehouse for consumption into the United States (i.e., the 50 states, the District of Columbia and the Commonwealth of Puerto Rico) of any textile item for which classification is claimed as sets under GRI 3 of the HTS, where a separate textile category currently exists or comes into existence requiring separate reporting of the components forming those sets.

Entry shall be permitted if all visa and quota requirements are met.

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc.02-6804 Filed 3-18-02; 9:54 am]

BILLING CODE 3510-DR-S